SOCIAL SECURITY ADMINISTRATION

[Docket No. SSA-2024-0003]

Social Security Ruling, SSR 24-2p. Titles II and XVI: How We Evaluate Past Relevant Work

AGENCY: Social Security Administration.

ACTION: Notice of Social Security Ruling (SSR).

SUMMARY: We are providing notice of SSR 24-2p. This SSR explains how we evaluate past relevant work in establishing disability under titles II and XVI of the Social Security Act (Act) and our implementing regulations. This ruling rescinds SSR 86-8 and rescinds and replaces SSRs 82-61 and 82-62.

DATES: We will apply this notice on June 22, 2024.

FOR FURTHER INFORMATION CONTACT: Mary Quatroche, Social Security Administration, Office of Disability Policy, 6401 Security Boulevard, Baltimore, MD 21235-6401, (410) 966-4794 or TTY 410-966-5609, for information about this notice. For information on eligibility or filing for benefits, call our national toll-free number, 1-800-772-1213 or TTY 1-800-325-0778, or visit our internet site, Social Security Online, at https://www.ssa.gov.

SUPPLEMENTARY INFORMATION: Although 5 U.S.C. 552(a)(1) and (a)(2) do not require us to publish this SSR, we are publishing it in accordance with 20 CFR 402.35(b)(1).

SSRs represent precedential final opinions, orders, and statements of policy and interpretations that we have adopted relating to the Federal Old Age, Survivors, and Disability Insurance program, and Supplemental Security Income program. We may base SSRs on determinations or decisions made in our administrative review process, Federal court decisions, decisions of our Commissioner, opinions from our Office of the General Counsel, or other interpretations of law and regulations.

Although SSRs do not have the same force and effect as law, they are binding on all SSA components in accordance with 20 CFR 402.35(b)(1).

This SSR will remain in effect until we publish a notice in the Federal Register that rescinds it, or until we publish a new SSR that replaces or modifies it.

The Commissioner of Social Security, Martin O'Malley, having reviewed and approved this document, is delegating the authority to electronically sign this document to Faye I. Lipsky, who is the primary Federal Register Liaison for the Social Security Administration, for purposes of publication in the Federal Register.

Faye I. Lipsky,
Federal Register Liaison, Office of Legislation and Congressional Affairs, Social Security Administration.

Policy Interpretation Ruling

SSR 24-2p: Titles II and XVI: How We Evaluate Past Relevant Work

This Social Security Ruling (SSR) rescinds SSR 86-8 and rescinds and replaces SSRs 82-61 and 82-62.

Purpose: The purpose of this SSR is to explain how we determine whether an individual retains the residual functional capacity (RFC) to perform the demands of their past relevant work (PRW). This SSR explains the policy set forth in our regulations so that those regulations will be consistently applied.

Citations (Authority): 42 U.S.C. 416(i), 423(d), and 1382c(a); 20 CFR 404.1545, 404.1560, 404.1565, 416.945, 416.960, and 416.965.

Dates: We will apply this SSR on June 22, 2024.¹

¹ We will use this SSR beginning on its applicable date. We will apply this SSR to new applications filed on or after the applicable date of the SSR and to claims that are pending on and after the applicable date. This means that we will use this SSR on and after its applicable date in any case in which we make a determination or decision. We expect that Federal courts will review our final decisions using the rules that were in effect at the time we issued the decisions. If a court reverses our final decision and remands a case for further administrative proceedings after the applicable date of this SSR, we will apply this SSR to the entire period at issue in the decision we make after the court's remand.

Policy Interpretation

To be disabled under title II of the Act, or as an adult under title XVI of the Act,² a claimant must be unable to engage in any substantial gainful activity (SGA) by reason of one or more medically determinable physical or mental impairments which can be expected to result in death, or which has lasted or can be expected to last for a continuous period of at least 12 months.³ The Act also states that an individual shall be determined to have a disability only if their physical or mental impairment(s) is of such severity that they are not only unable to do their previous work but cannot, considering their age, education, and work experience, engage in any other kind of substantial gainful work which exists in the national economy, regardless of whether such work exists in the immediate area in which they live, or whether a specific job vacancy exists for them, or whether they will be hired if they apply for work.⁴ The Act defines work which exists in the national economy as work which exists in significant numbers either in the region where such individual lives or in several regions of the country.⁵

² Individuals under age 18 who apply for Supplemental Security Income (SSI) under title XVI of the Act are disabled if they are not performing SGA and their medically determinable physical or mental impairment(s) causes marked and severe functional limitations and can be expected to cause death or has lasted or can be expected to last for a continuous period of 12 months. See 42 U.S.C. 1382c(a)(3)(C) and 20 CFR 416.906.

³ See 42 U.S.C. 416(i), 423(d), and 1382c(a). See also 20 CFR 404.1505, 404.1521, 416.905, and 416.921.

⁴ 42 U.S.C. 423(d)(2)(A) and 1382c(a)(3)(B).

⁵ Id.

Past Relevant Work in the Sequential Evaluation Process

We use a five-step sequential evaluation process to determine whether an individual is disabled.⁶ Past work is a consideration at step four of that process.

⁶ 20 CFR 404.1520 and 416.920. We use a different sequential evaluation process for title XVI SSI claims involving individuals under age 18.

At step four of the sequential evaluation process, we consider whether, given their RFC, the individual can perform any of their PRW either as the individual actually performed it or as the work is generally performed in the national economy.⁷ If we find that the individual can perform any of their PRW, we will find that the individual is not disabled. If the individual cannot perform any of their PRW, we go to the fifth step of the sequential evaluation process.⁸

⁷ 20 CFR 404.1520(a)(4)(iv), 404.1520(f), 404.1560(b)(2), 416.920(a)(4)(iv), 416.920(f), and 416.960(b)(2).

⁸ We may use the expedited process described in 20 CFR 404.1520(h) and 416.920(h) to consider step five before step four, when applicable.

Once an individual is found disabled and receives benefits, we may periodically conduct a continuing disability review (CDR) to determine whether the individual continues to be disabled.⁹ Although the CDR rules use a different sequential evaluation process, the final two steps of the process used for CDRs (steps seven and eight in title II cases and steps six and seven in adult title XVI cases) mirror the final two steps used in the sequential evaluation process for initial claims (steps four and five).¹⁰

⁹ 20 CFR 404.1520(a)(5), 404.1589, 404.1594, 416.920(a)(5), 416.989, and 416.994.

¹⁰ 20 CFR 404.1594(f)(7)-(8) and 416.994(b)(5)(vi)-(vii).

List of Questions and Answers—

The following information is in a question-and-answer format that provides guidance on how we determine whether an individual retains the RFC to perform the demands of their PRW.

Questions

1. How do we define PRW?

2. How do we determine whether an individual's past work was done within the past 5 years?

3. How do we determine whether an individual's past work started and stopped in fewer than 30 calendar days?

4. How do we determine whether an individual performed work long enough to learn to do it?

5. How do we determine whether an individual can perform PRW?

6. How do we determine whether an individual can perform their PRW as they actually performed it?

7. How do we determine whether an individual can perform their PRW as it is generally performed in the national economy?

8. How do we obtain evidence concerning an individual's work history?

9. What information do we require when determining whether work is PRW that an individual can perform?

10. What findings and rationale must our determination or decision include when we find an individual is able to perform PRW?

Answers

1. How do we define PRW?

PRW is work that an individual has done within the past 5 years, that was SGA,¹¹ and that lasted long enough for the individual to learn to do it. Work that the individual started and stopped in fewer than 30 calendar days is not PRW.¹²

¹¹ The criteria for determining whether an individual has done SGA are set forth in our regulations at 20 CFR 404.1571-404.1575 and 416.971-416.975.

¹² 20 CFR 404.1560(b)(1)(i)-(ii) and 416.960(b)(1)(i)-(ii).

2. How do we determine whether an individual's past work was done within the past 5 years?

The relevant period for PRW is generally measured from the date of our determination or decision on a claim. In some situations, the relevant period is measured from an earlier date.¹³ The table below provides guidelines for common scenarios.

¹³ See SSR 18-1p: Titles II and XVI: Determining the Established Onset Date (EOD) in Disability Claims, which identifies the most common types of disability claims and some of the regulations that explain the non-medical requirements for those types of claims. See also POMS DI 25001.001 Medical and Vocational Quick Reference Guide, available at: https://secure.ssa.gov/apps10/poms.nsf/lnx/0425001001.

Type of claim | Relevant period— 5-year period ends on
Title II Disability Insurance Benefits (DIB)—Date Last Insured (DLI) in the future | The date of adjudication.
Title II DIB—DLI in the past | The DLI.
Title II Widow or Widower, or Surviving Divorced Spouse (DWB)—Prescribed Period not expired | The date of adjudication.
Title II DWB—Prescribed Period expired | The last day of the Prescribed Period.
Title II—Full Retirement Age (FRA) in the past | The day before attainment of FRA.
Title II Childhood Disability Beneficiaries (CDB)—Initial claim filed before age 22 | The date of adjudication.
Title II CDB—Initial claim filed after age 22, no relevant work after age 22 | The day before attainment of age 22.
Title II CDB—Reentitlement Claim, 7-year period applies and ended in the past | The last day of the reentitlement period.
Title II CDB—Reentitlement Claim, 7-year period applies and has not yet ended, or 7-year period does not apply | The date of adjudication.
Title XVI Adult | The date of adjudication.
Title II or Title XVI Continuing Disability Review (CDR) | The date of CDR adjudication.

3. How do we determine whether an individual's past work started and stopped in fewer than 30 calendar days?

We will not consider work to be PRW if an individual started and stopped it in fewer than 30 calendar days. We consider 30 calendar days to be a period of 30 consecutive days, including weekends, starting from the first day of work. We generally do not consider the total number of hours or days worked during that period, or whether the work was full-time or part-time. The 30 calendar days requirement is separate from the consideration of SGA or whether an individual worked long enough to learn how to do the work, although the 30 calendar days may count toward the time needed for an individual to learn to do the work. If an individual was self-employed or an independent contractor, we will consider whether the individual was engaged in the same type of work for 30 calendar days, even if individual work assignments or contracts each lasted fewer than 30 calendar days.¹⁴

¹⁴ This would apply to “gig economy” type jobs as well, provided they meet the other requirements. For example, an individual completed 20 different shopping trips for a grocery delivery service but did so over a period of 30 calendar days or more. We would still require the individual to report that work experience as a single delivery job, because the individual did the same job for at least 30 calendar days. This is true even though each individual shopping trip started and stopped within a period of fewer than 30 calendar days.

Example 1: On March 1, 2023, an individual began working a job that requires only a brief demonstration to learn. The individual's last day of work was March 30, 2023. The individual worked at the job for 30 calendar days because they started work on March 1, 2023, and their last day of work was on March 30, 2023. In this situation, the job would qualify as PRW if it was performed at the SGA level and during the 5-year relevant work period.

Example 2: On February 1, 2023, an individual began working a job that requires only a brief demonstration to learn. The individual's last day of work was February 28, 2023. Although the individual held the job long enough to learn to do it, the work started and stopped in fewer than 30 calendar days. In this situation, the job would not qualify as PRW, even if it was performed at the SGA level and during the 5-year relevant work period.

4. How do we determine whether an individual performed work long enough to learn to do it?

Long enough to learn means that the individual gained sufficient job experience to learn the techniques, acquire information, and develop the facility needed for average performance in the job. The length of time this would take depends on the nature and complexity of the work, which may be expressed as specific vocational preparation (SVP).

5. How do we determine whether an individual can perform PRW?

We determine whether an individual can perform their PRW by considering whether the individual retains the RFC to meet the functional demands of any of their PRW as they actually performed it or as it is generally performed in the national economy.

6. How do we determine whether an individual can perform their PRW as they actually performed it?

When we determine whether an individual can perform their PRW as they actually performed it, we consider whether the individual retains the RFC to perform the particular functional demands peculiar to the work the individual did.

For information about the evidence we use to determine how an individual actually performed a job, see the guidance below at Question 9, What information do we require when determining whether work is PRW that an individual can perform?

7. How do we determine whether an individual can perform their PRW as it is generally performed in the national economy?

When we determine whether an individual can perform their PRW as it is generally performed in the national economy, we consider whether the individual retains the capacity to perform the occupation's functional demands as ordinarily required throughout the national economy.

We may rely on descriptions of occupations from reliable sources of job information to determine how occupations are generally performed. A vocational specialist or vocational expert may also provide information about how an occupation is generally performed in the national economy.

As actually performed, an individual's job may have involved functional demands that are different from those generally required for the occupation throughout the national economy. If the individual cannot meet the functional demands actually required in the former job but can meet the functional demands as generally required throughout the economy, we will find the individual able to perform PRW and not disabled.

8. How do we obtain evidence concerning an individual's work history?

An individual is the primary source for information concerning their work history, but we consider all available evidence and information. Statements by the individual about their past work are generally sufficient for determining the skill level and physical and mental demands of such work. If the individual cannot give us all the information we need, we may try, with the individual's permission, to get it from their employer or another person who knows about the individual's work, such as a family member or a co-worker.¹⁵

¹⁵ See 20 CFR 404.1565(b) and 416.965(b).

We will ask the individual to tell us about all of the work they did in the last 5 years (unless the job started and stopped in fewer than 30 calendar days). The individual must tell us the dates they worked, the duties they performed, and any tools, machinery, and equipment they used. We will need to know the amount of walking, standing, sitting, lifting, and carrying the individual did during the workday, as well as any other physical or mental demands of their work.

9. What information do we require when determining whether work is PRW that an individual can perform?

To determine whether an individual can perform PRW, we need information about the physical and mental demands of PRW, particularly as relevant to the individual's RFC. This may include detailed information about strength, manipulative ability, mental demands, and other job requirements. Other information, such as information concerning dates work was performed, tools and machines used, the extent of supervision required, and a description of tasks and responsibilities, may be needed to determine whether the work is PRW that the individual can perform. If more than one job was performed during the 5-year period, we will request separate descriptions of each job the individual performed during the relevant period.

Determination of the individual's ability to do PRW requires careful consideration of:

• the individual's statements as to which past work requirements can no longer be met and the reason(s) for their inability to meet those requirements;

• the individual's RFC; ¹⁶ and

¹⁶ 20 CFR 404.1545 and 416.945 and SSR 96-8p Policy Interpretation Ruling Titles II and XVI: Assessing Residual Functional Capacity in Initial Claims.

• in some cases, supplementary or corroborative information from other sources on the requirements of the work as actually performed by the individual or as generally performed in the economy.

10. What findings and rationale must our determination or decision include when we find that an individual is able to perform PRW?

A determination or decision that an individual is not disabled, based on their ability to perform at least one job or occupation that is PRW at step four of the sequential evaluation process, must contain adequate rationale and findings.

In finding that an individual has the capacity to perform PRW, the determination or decision must:

• establish the individual's RFC;

• identify the PRW the individual can do;

• consider the physical and mental demands of the PRW either as the individual actually performed the job or as the occupation is generally performed in the national economy; and

• find that the individual's RFC establishes capacity to perform the PRW either as the individual actually performed the job or as the occupation is generally performed in the national economy.

[FR Doc. 2024-12414 Filed 6-5-24; 8:45 am]

BILLING CODE 4191-02-P